DEPARTMENT OF LABOR

Employment and Training Administration

[TA-W-65,517]

General Motors Corporation, Warren, OH; Notice of Termination of Investigation

Pursuant to Section 221 of the Trade Act of 1974, as amended, an investigation was initiated on March 4, 2009 in response to a petition filed by the International Union, United Automobile, Aerospace, and Agricultural Implement Workers of America, Local 1112, on behalf of workers at General Motors Corporation, Warren, Ohio. The workers at the subject facility assemble automobiles.

The petitioner has requested that the petition be withdrawn. Consequently, the investigation has been terminated.

Signed in Washington, DC, this 17th day of April 2009.
Richard Church,
Certifying Officer, Division of Trade Adjustment Assistance.

[FR Doc. E9-10912 Filed 5-8-09; 8:45 am]

BILLING CODE 4510-FN-P